ENVIRONMENTAL PROTECTION AGENCY

[FRL-8495-8]

Agency Information Collection Activities OMB Responses

AGENCY: Environmental Protection Agency (EPA).

ACTION: Notice.

SUMMARY: This document announces the Office of Management and Budget's (OMB) response to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 2147.03; Pesticide Registration Fee Waivers; was approved 10/10/2007; OMB Number 2070-0167; expires 10/31/2010.

EPA ICR Number 1204.10; Submission of Unreasonable Adverse Effects Information Under FIFRA Section 6(a)(2); in 40 CFR part 159, subpart D; was approved 10/10/2007; OMB Number 2070-0039; expires 10/31/2010.

EPA ICR Number 1984.03; NESHAP for Plywood and Composite Wood Products (Renewal); in 40 CFR part 63, subpart DDDD; was approved 10/15/2007; OMB Number 2060-0552; expires 10/31/2010.

EPA ICR Number 1071.09; NSPS for Stationary Gas Turbines (Renewal); in 40 CFR part 60, subpart GG; was approved 10/18/2007; OMB Number 2060-0028; expires 10/31/2010.

EPA ICR Number 2045.03; NESHAP for Automobile and Light-duty Truck Surface Coating (Renewal); in 40 CFR part 63, subpart IIII; was approved 10/22/2007; OMB Number 2060-0550; expires 10/31/2010.

EPA ICR Number 1249.08; Recordkeeping Requirements for Certified Applicators Using 1080 Collars for Livestock Protection; was approved 11/05/2007; OMB Number 2070-0074; expires 11/30/2010.

EPA ICR Number 0276.13; Application for Experimental Use Permit (EUP) to Ship and Use a Pesticide for Experimental Purposes Only; in 40 CFR part 172; was approved 11/05/2007; OMB Number 2070-0040; expires 11/30/2010.

EPA ICR Number 1214.07; Pesticide Product Registration Maintenance Fee; was approved 11/05/2007; OMB Number 2070-0100; expires 11/30/2010.

Short Term Approval

EPA ICR Number 1572.06; Hazardous Waste Specific Unit Requirements and Special Waste Processes and Types (Renewal); in 40 CFR parts 261, 264, 265 and 266; was granted a short term extension by OMB on 10/30/2007; OMB Number 2050-0050; expires 11/30/2007.

Withdrawn and Continue

EPA ICR Number 2185.02; State Review Framework (Revision) was withdrawn by Agency on 11/02/2007 and existing program approval continues through 11/30/2008.

Dated: November 8, 2007.
Sara Hisel-McCoy,
Director, Collection Strategies Division.

[FR Doc. E7-22442 Filed 11-15-07; 8:45 am]

BILLING CODE 6560-50-P